COMMITTEE FOR PURCHASE FROM PEOPLE WHO ARE BLIND OR SEVERELY DISABLED

Procurement List; Proposed Additions

AGENCY: Committee for Purchase From People Who Are Blind Or Severely Disabled.

ACTION: Proposed additions to Procurement List.

SUMMARY: The Committee is proposing to add to the Procurement List products and services to be furnished by nonprofit agencies employing persons who are blind or have other severe disabilities.

Comments Must be Received on or Before: June 12, 2005.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

The following material pertains to the products identified in this Federal Register Notice.

New Army Combat Uniform (ACU) Coats & Trousers—Transition Quantities Qualified Nonprofit Agencies under the Committee's program are currently authorized to produce 300,000 Battle Dress Uniform (BDU) trousers and 100,000 BDU coats. During the Army's transition from BDU to the ACU, at the request of the Defense Supply Center—Philadelphia (DSCP), it is proposed that qualified nonprofit agencies produce an additional 200,000 BDU trousers, 900,000 ACU coats, 900,000 ACU trousers, and 50,000 BDU coats annually, for a period of three years. Once the transition period is complete, the additional quantities will be deleted from the Procurement List and the qualified nonprofit agencies will reduce their production, back to 300,000 ACU trousers and 100,000 ACU coats.

The following material pertains to all of the items being added to the Procurement List.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: BDU Trousers, Combat (Additional 200,000 pair of any Type),

8415-01-084-1016,

8415-01-084-1017,

8415-01-084-1705,

8415-01-084-1706,

8415-01-084-1707,

8415-01-084-1708,

8415-01-084-1709,

8415-01-084-1710,

8415-01-084-1711,

8415-01-084-1712,

8415-01-084-1713,

8415-01-084-1714,

8415-01-084-1715,

8415-01-084-1716,

8415-01-084-1717,

8415-01-084-1718,

8415-01-134-3193,

8415-01-134-3194,

8415-01-134-3195,

8415-01-134-3196,

8415-01-134-3197,

8415-01-327-5324,

8415-01-327-5325,

8415-01-327-5326,

8415-01-327-5327,

8415-01-327-5328,

8415-01-327-5329,

8415-01-327-5330,

8415-01-327-5331,

8415-01-327-5332,

8415-01-327-5333,

8415-01-327-5334,

8415-01-327-5335,

8415-01-327-5336,

8415-01-327-5337,

8415-01-327-5338,

8415-01-327-5339,

8415-01-327-5340,

8415-01-327-5341,

8415-01-327-5342,

8415-01-327-5343,

8415-01-327-5344,

8415-01-390-8554,

8415-01-390-8556,

8415-01-390-8939,

8415-01-390-8940,

8415-01-390-8941,

8415-01-390-8942,

8415-01-390-8943,

8415-01-390-8944,

8415-01-390-8945,

8415-01-390-8946,

8415-01-390-8947,

8415-01-390-8948,

8415-01-390-8949,

8415-01-390-8950,

8415-01-390-8951,

8415-01-390-8952,

8415-01-390-8953,

8415-01-390-8954,

8415-01-391-1062,

8415-01-391-1063,

8415-01-400-3676,

8415-01-400-3677,

8415-01-400-3678,

8415-01-413-6202,

8415-01-413-6207,

8415-01-413-6210,

8415-01-498-7924,

8415-01-498-7926,

8415-01-498-7929.

NPA: Goodwill Industries of South Florida Inc., Miami, Florida.

Contracting Activity: Defense Supply Center Philadelphia, Philadelphia, Pennsylvania.

Product/NSN: BDU Coat, Woodland, Camouflage (Type VI) (Additional 50,000 coats),

8415-01-390-8537,

8415-01-390-8538,

8415-01-390-8539,

8415-01-390-8540,

8415-01-390-8541,

8415-01-390-8542,

8415-01-390-8543,

8415-01-390-8544,

8415-01-390-8545,

8415-01-390-8546,

8415-01-390-8547,

8415-01-390-8548,

8415-01-390-8549,

8415-01-390-8550,

8415-01-390-8551,

8415-01-390-8552,

8415-01-390-8553,

8415-01-390-8555,

8415-01-390-8557,

8415-01-390-9641,

8415-01-390-9646,

8415-01-390-9648.

NPA: Southside Training Employment Placement Services Inc., Victoria, Virginia.

Contracting Activity: Defense Supply Center Philadelphia, Philadelphia, Pennsylvania.

Product/NSN: New Army Combat Uniform (ACU), Coat and Trousers (600,000 sets), 8415-01-519-8277,

8415-01-519-8279,

8415-01-519-8404,

8415-01-519-8408,

8415-01-519-8410,

8415-01-519-8414,

8415-01-519-8416,

8415-01-519-8418,

8415-01-519-8419,

8415-01-519-8422,

8415-01-519-8423,

8415-01-519-8426,

8415-01-519-8427,

8415-01-519-8429,

8415-01-519-8430,

8415-01-519-8431,

8415-01-519-8432,

8415-01-519-8434,

8415-01-519-8435,

8415-01-519-8436,

8415-01-519-8444,

8415-01-519-8445,

8415-01-519-8446,

8415-01-519-8447,

8415-01-519-8487,

8415-01-519-8491,

8415-01-519-8497,

8415-01-519-8499,

8415-01-519-8500,

8415-01-519-8501,

8415-01-519-8502,

8415-01-519-8504,

8415-01-519-8505,

8415-01-519-8506,

8415-01-519-8507,

8415-01-519-8509,

8415-01-519-8510,

8415-01-519-8512,

8415-01-519-8513,

8415-01-519-8514,

8415-01-519-8532,

8415-01-519-8599,

8415-01-519-8607,

8415-01-519-8608,

8415-01-519-8609,

8415-01-519-8610,

8415-01-519-8611,

8415-01-519-8612,

8415-01-519-8613,

8415-01-522-9557,

8415-01-527-5047,

8415-01-527-5048,

8415-01-527-5049,

8415-01-527-5051,

8415-01-527-5053,

8415-01-527-5215,

8415-01-527-5218,

8415-01-527-5219,

8415-01-527-5220,

8415-01-527-5222,

8415-01-527-5223,

8415-01-527-5224,

8415-01-527-5247,

8415-01-527-5266,

8415-01-527-5269,

8415-01-527-5273,

8415-01-527-5274,

8415-01-527-5275,

8415-01-527-5277,

8415-01-527-5290,

8415-01-527-5291,

8415-01-527-5292,

8415-01-527-5293,

8415-01-527-5296.

NPA: National Center for Employment of the Disabled, El Paso, Texas.

Contracting Activity: Defense Supply Center Philadelphia, Philadelphia, Pennsylvania.

Product/NSN: New Army Combat Uniform, Trousers (Up to 300,000 pair), 8415-01-519-8277,

8415-01-519-8404,

8415-01-519-8410,

8415-01-519-8414,

8415-01-519-8416,

8415-01-519-8418,

8415-01-519-8419,

8415-01-519-8422,

8415-01-519-8423,

8415-01-519-8426,

8415-01-519-8427,

8415-01-519-8429,

8415-01-519-8430,

8415-01-519-8431,

8415-01-519-8432,

8415-01-519-8434,

8415-01-519-8435,

8415-01-519-8436,

8415-01-519-8444,

8415-01-519-8445,

8415-01-519-8446,

8415-01-519-8447.

NPA: El Paso Lighthouse for the Blind, El Paso, Texas. New York City Industries for the Blind Inc., Brooklyn, New York. Raleigh Lions Clinic for the Blind Inc., Raleigh, North Carolina. San Antonio Lighthouse, San Antonio, Texas.

Product/NSN: New Army Combat Uniform (ACU), Coats (Up to 300,000 coats), 8415-01-519-8487,

8415-01-519-8491,

8415-01-519-8497,

8415-01-519-8499,

8415-01-519-8500,

8415-01-519-8501,

8415-01-519-8502,

8415-01-519-8504,

8415-01-519-8505,

8415-01-519-8506,

8415-01-519-8507,

8415-01-519-8509,

8415-01-519-8510,

8415-01-519-8512,

8415-01-519-8513,

8415-01-519-8514,

8415-01-519-8532,

8415-01-519-8599,

8415-01-519-8607,

8415-01-519-8608,

8415-01-519-8609,

8415-01-519-8610,

8415-01-519-8611,

8415-01-519-8612,

8415-01-519-8613.

NPA: Bestwork Industries for the Blind Inc., Runnemede, New Jersey. Raleigh Lions Clinic for the Blind Inc., Raleigh, North Carolina. Susquehanna Association for the Blind and Visually Impaired, Lancaster, Pennsylvania. Winston-Salem Industries for the Blind, Winston-Salem, North Carolina.

Services

Service Type/Location: Custodial Services, U.S. Federal Building, 400 North Miami Avenue, Miami, Florida.

NPA: Goodwill Industries of South Florida, Inc., Miami, Florida.

Contracting Activity: GSA, Property Management Center (4PMB), Atlanta, Georgia.

Service Type/Location: Document Destruction, Internal Revenue Service, Chicago Appeals Office, 200 W Adams Street, Chicago, Illinois.

NPA: Opportunity, Inc., Highland Park, Illinois.

Contracting Activity: Internal Revenue Service, Dallas, Texas.

Service Type/Location: Food Service, Illinois National Guard, Lincoln's Challenge Academy, 205 W. Dodge, Building 303, Rantoul, Illinois.

NPA: Challenge Unlimited, Inc., Alton, Illinois.

Contracting Activity: Illinois Army National Guard—Camp Lincoln, Springfield, Illinois.

Service Type/Location: Laundry Service, Basewide, Bolling AFB, DC.

NPA: Rappahannock Goodwill Industries, Inc., Fredericksburg, Virginia.

Contracting Activity: HQ Bolling—11th CONS/LGCO, Bolling AFB, DC.

Sheryl D. Kennerly,
Director, Information Management.

[FR Doc. E5-2412 Filed 5-12-05; 8:45 am]

BILLING CODE 6353-01-P